OFFICE OF PERSONNEL MANAGEMENT

Submission for OMB Review; Comment Request; Review of a Revised Information Collection; Optional Form 306

AGENCY: Office of Personnel Management.

ACTION: Notice.

SUMMARY: The Optional Form 306 (Declaration for Federal Employment) is used by OPM and other agencies to collect information to determine an individual's acceptability for Federal employment and enrollment status in the Government's Life Insurance program. We plan to add the following questions about Selective Service Registration, which are currently on the Applicant's Statement of Selective Service Registration to the Optional Form 306: “If you are a male born after December 31, 1959, and are at least 18 years of age, civil service employment law (5 U.S.C. 3328) requires you must register with the Selective Service System, unless you meet certain exemptions. Are you a male born after December 31, 1959? Yes_____ No_____ Have you registered with the Selective Service? Yes_____ No_____. If No, describe your reason(s) in item 16.”

We estimate 474,000 forms will be completed annually. Each form takes approximately 15 minutes to complete. The annual estimated burden is 118,500 hours.

To obtain copies of this proposal please contact Mary Beth Smith-Toomey at (202) 606-8358, or Fax (202) 418-3251, or by e-mail to mbtoomey@opm.gov.

DATES: Comments on this proposal should be received on or before July 21, 2000.

ADDRESSES: Send or deliver comments to:

Richard A. Ferris, Associate Director for Investigations, Office of Personnel Management, 1900 E Street, NW., Room 5416, Washington, DC 20415-4000

and

Joseph Lackey, OPM Desk Officer, Office of Information & Regulatory Affairs, Office of Management and Budget, New Executive Office Building, NW., Room 10235, Washington, DC 20503.

U.S. Office of Personnel Management.
Janice R. Lachance,
Director.

[FR Doc. 00-15643 Filed 6-20-00; 8:45 am]

BILLING CODE 6325-01-P